DEPARTMENT OF COMMERCE

National Oceanic and Atmospheric Administration

[I.D. 050307D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Skate Advisory Panel and Plan Development Team (PDT) as well as its Skate Committee in May and June, 2007 to consider actions affecting New England fisheries in the exclusive economic zone (EEZ). Recommendations from these groups will be brought to the full Council for formal consideration and action, if appropriate.

DATES: These meetings will be held on Thursday, May 31, 2007 at 8:30 a.m. and Friday, June 1, 2007 at 8:30 a.m.

ADDRESSES: These meetings will be held at the Providence Biltmore, 11 Dorrance Street, Providence, RI 02903; telephone: (401) 421-0700; fax: (401) 455-3040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The agendas for the following meetings are as follows:

1. Thursday, May 31, 2007; The PDT and Advisory Panel will develop recommendations for management alternatives to reduce mortality on skates, reduce bycatch, and rebuild overfished Thorny and Winter skates. Recommendations may also be made for alternatives addressing other issues.

2. Friday, June 1, 2007; The committee will review scoping comments on Amendment 3 and develop management alternatives based on recommendations from the PDT and Advisory Panel. Management alternatives will focus on reducing mortality on skates, reducing bycatch, and rebuilding overfished Thorny and Winter skates. The committee may also develop alternatives to address other skate management issues.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: May 4, 2007.
Tracey L. Thompson,
Acting Director, Office of Sustainable Fisheries, National Marine Fisheries Service.

[FR Doc. E7-8853 Filed 5-8-07; 8:45 am]

BILLING CODE 3510-22-S